DEPARTMENT OF COMMERCE

National Oceanic and Atmospheric Administration

RIN 0648-XI43

Notice of Availability of Draft Stock Assessment Reports

AGENCY: National Marine Fisheries Service (NMFS), National Oceanic and Atmospheric Administration (NOAA), Commerce.

ACTION: Notice; request for comments.

SUMMARY: NMFS reviewed the Alaska, Atlantic, and Pacific regional marine mammal stock assessment reports (SARs) in accordance with the Marine Mammal Protection Act (MMPA). SARs for marine mammals in the Alaska, Atlantic, and Pacific regions were revised according to new information. NMFS solicits public comments on draft 2008 SARs.

DATES: Comments must be received by October 14, 2008.

ADDRESSES: The 2008 draft stock assessment reports are available in electronic form via the Internet at http://www.nmfs.noaa.gov/pr/sars/.

Copies of the Alaska Regional SARs may be requested from Robyn Angliss, Alaska Fisheries Science Center, NMFS, 7600 Sand Point Way, NE BIN 15700, Seattle, WA 98115-0070.

Copies of the Atlantic and Gulf of Mexico Regional SARs may be requested from Gordon Waring, Northeast Fisheries Science Center, 166 Water St., Woods Hole, MA 02543.

Copies of the Pacific Regional SARs may be requested from Jim Carretta, Southwest Fisheries Science Center, 8604 La Jolla Shores Drive, La Jolla, CA 92037-1508.

Send comments or requests for copies of reports to: Chief, Marine Mammal and Sea Turtle Conservation Division, Office of Protected Resources, National Marine Fisheries Service, 1315 East-West Highway, Silver Spring, MD 20910-3226, Attn: Stock Assessments. Comments may also be sent via facsimile (fax) to 301-427-2526 or via email to mmsar.2008@noaa.gov.

FOR FURTHER INFORMATION CONTACT: Tom Eagle, Office of Protected Resources, 301-713-2322, ext. 105, e-mail Tom.Eagle@noaa.gov; Robyn Angliss 206- 526-4032, e-mail Robyn.Angliss@noaa.gov, regarding Alaska regional stock assessments; Gordon Waring, 508-495-2311, e-mail Gordon.Waring@noaa.gov, regarding Atlantic regional stock assessments; or Jim Carretta, 858-546-7171, e-mail Jim.Carretta@noaa.gov, regarding Pacific regional stock assessments.

SUPPLEMENTARY INFORMATION:

Background

Section 117 of the Marine Mammal Protection Act (MMPA) (16 U.S.C. 1361 et seq.) requires NMFS and the U.S. Fish and Wildlife Service (FWS) to prepare stock assessments for each stock of marine mammals occurring in waters under the jurisdiction of the United States. These reports must contain information regarding the distribution and abundance of the stock, population growth rates and trends, estimates of annual human-caused mortality and serious injury from all sources, descriptions of the fisheries with which the stock interacts, and the status of the stock. Initial reports were completed in 1995.

The MMPA requires NMFS and FWS to review the SARs at least annually for strategic stocks and stocks for which significant new information is available, and at least once every 3 years for non-strategic stocks. NMFS and the FWS are required to revise a SAR if the status of the stock has changed or can be more accurately determined. NMFS, in conjunction with the Alaska, Atlantic, and Pacific Scientific Review Groups (SRGs), reviewed the status of marine mammal stocks as required and revised reports in the Alaska, Atlantic, and Pacific regions to incorporate new information. NMFS solicits public comments on the draft 2008 SARs.

Alaska Reports

Nineteen reports (15 strategic stocks and four non-strategic stocks) were revised, and 13 reports were not revised. Most revisions included updates of abundance and mortality estimates and did not indicate a change in status of the affected stocks. The Potential Biological Removal (PBR) levels for the following stocks are proposed to be changed to “undetermined” because the abundance estimates are based on data that are more than 8 years old: beluga, Beaufort Sea; beluga, E. Chukchi Sea; harbor porpoise, Gulf of Alaska; harbor porpoise, Bering Sea; harbor porpoise, Southeast Alaska; humpback whale, western North Pacific; humpback whale, central North Pacific.

A “Habitat Concerns” section was added or substantially updated for all beluga whale stocks with the exception of the Cook Inlet stock, for all harbor porpoise stocks, and for gray whales. As ice-associated species, beluga whales (inhabiting the Bering Seas and farther northward) and gray whales may be vulnerable to loss of sea ice; however, there is insufficient supporting information to predict the types and magnitudes of impacts to these species at this time. As inhabitants of nearshore areas, harbor porpoise may be vulnerable to habitat modifications accompanying urban or industrial development; accordingly, increased development could have localized effects on harbor porpoise abundance or distribution. The gray whale report was updated to incorporate findings from a recent paper that used genetics data to estimate the historical abundance of gray whales in the Pacific Ocean.

Atlantic Reports

Forty-three reports (11 strategic and 32 non-strategic) were revised in the Atlantic region, including all reports for marine mammals in the Gulf of Mexico. Fifteen reports were not revised. Most updates were minor and did not change the status of the affected stocks. NMFS revised the status of beaked whales from strategic to non-strategic due to the absence of observed fishery bycatch in recent years and the lack of confirmed serious injuries or mortalities due to acoustic trauma as recommended by the SRG. A new report was added this year for the Western North Atlantic stock of rough-toothed dolphins, which is a non-strategic stock.

Extensive revision was made to the report on the Atlantic coastal stocks of bottlenose dolphins. The revisions incorporate new information on structure and migratory pattern, which indicate a second (southern) migratory stock that inhabits waters off the coast of NC and VA in summer and migrates to areas off the coasts of SC to northern FL during winter. The revised report excludes dolphins inhabiting bays, sounds, and estuaries from the coasts and does not contain stock-specific mortality estimates. A separate report for the bay, sound, estuary stocks and stock-specific mortality estimates are expected to appear in revisions for 2009.

Pacific Reports

Revisions for 2008 include 27 Pacific marine mammal stocks under NMFS jurisdiction, including nine “strategic” stocks and 18 “non-strategic” stocks (see summary table). Thirty-seven reports were not revised. New abundance estimates are available for 20 stocks, including five endangered species of large whales, the Hawaiian monk seal, and southern resident killer whales.

False killer whales in the Hawaii Exclusive Economic Zone (EEZ) have been divided into two separate stocks based upon recent sighting and genetic data indicating that false killer whales within 25-75 nmi of the main Hawaiian Islands are demographically independent of false killer whales further offshore. Accordingly, the 2008 draft SAR recognizes Hawaii pelagic and Hawaii insular stocks within the Hawaii EEZ. As included since the 2007 final SAR, there is a third stock of false killer whales found in the EEZ surrounding Palmyra Atoll. The Hawaii pelagic stock is a strategic stock, and the other two stocks are non-strategic.

The status of one U.S. west coast cetacean stock ('California long-beaked common dolphin') has changed from “strategic” to “non-strategic”, based on new estimates of abundance, a revised PBR, and updates of incidental fishery mortality levels. A SAR for the Eastern Tropical Pacific stock of Bryde's whale will no longer be prepared, as recommended by the Pacific SRG, because whales of this stock rarely enter U.S. waters; however, the SAR for the Hawaiian stock of Bryde's whales will be retained in the 2008 and subsequent reports.

Dated: July 8, 2008.
Helen M. Golde,
Deputy Director, Office of Protected Resources, National Marine Fisheries Service.

[FR Doc. E8-15995 Filed 7-11-08; 8:45 am]

BILLING CODE 3510-22-S